DEPARTMENT OF TRANSPORTATION

Federal Aviation Administration

14 CFR Part 39

[Docket No. 2000-CE-76-AD; Amendment 39-12834; AD 2002-15-06]

RIN 2120-AA64

Airworthiness Directives; Air Tractor, Inc. Models AT-802 and AT-802A Airplanes

AGENCY: Federal Aviation Administration, DOT.

ACTION: Final rule.

SUMMARY: This amendment adopts a new airworthiness directive (AD) that applies to certain Air Tractor, Inc. (Air Tractor) Models AT-802 and AT-802A airplanes. This AD requires you to replace the rudder control cables and fairleads with parts of improved design. This AD is the result of a report that a rudder control cable broke because of wear at the aft fairlead. The actions specified by this AD are intended to prevent the rudder control cable from breaking because of the rudder control cables wearing in the fairlead area. Broken rudder control cables could result in loss of rudder control.

DATES: This AD becomes effective on September 13, 2002.

The Director of the Federal Register approved the incorporation by reference of certain publications listed in the regulations as of September 13, 2002.

ADDRESSES: You may get the service information referenced in this AD from Air Tractor, Inc., PO Box 485, Olney, Texas 76374. You may view this information at the Federal Aviation Administration (FAA), Central Region, Office of the Regional Counsel, Attention: Rules Docket No. 2000-CE-76-AD, 901 Locust, Room 506, Kansas City, Missouri 64106; or at the Office of the Federal Register, 800 North Capitol Street, NW., Suite 700, Washington, DC.

FOR FURTHER INFORMATION CONTACT: Garry D. Sills, Aerospace Engineer, FAA, Fort Worth Airplane Certification Office, 2601 Meacham Boulevard, Fort Worth, Texas 76193-0150; telephone: (817) 222-5154; facsimile: (817) 222-5960.

SUPPLEMENTARY INFORMATION:

Discussion

What Events Have Caused This AD?

The FAA received reports of the rudder control cables wearing at the aft fairlead area on Air Tractor Models AT-802 and AT-802A airplanes. In one instance, the rudder cable broke on a Model AT-802 airplane.

Air Tractor has designed a new cable that incorporates a stainless steel sleeve that is crimped to the cable in the fairlead area. The stainless steel sleeve is intended to prevent wear of the new cable in that area.

What Is the Potential Impact if FAA Took No Action?

If this condition is not corrected, rudder control cables may wear and break at the fairlead area. Broken rudder control cables could result in loss of rudder control.

Has FAA Taken Any Action to This Point?

We issued a proposal to amend part 39 of the Federal Aviation Regulations (14 CFR part 39) to include an AD that would apply to certain Air Tractor Models AT-802 and AT-802A airplanes. This proposal was published in the Federal Register as a notice of proposed rulemaking (NPRM) on March 20, 2002 (67 FR 12914). The NPRM proposed to replace the rudder control cables and fairleads with parts of improved design.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 81 airplanes in the U.S. registry.

What Is the Cost Impact of This AD on Owners/Operators of the Affected Airplanes?

We estimate the following costs to accomplish the modification:

Labor cost | Parts cost | Total cost per airplane | Total cost on U.S. operators
2 workhours × 60 per hour=$120 | $300 | $420 | $34,020

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-15-06 Air Tractor, Inc.: Amendment 39-12834; Docket No. 2000-CE-76-AD.

(a) What airplanes are affected by this AD? This AD affects Models AT-802 and AT-802A airplanes, serial numbers 802-0001 through 802-0081, that are certificated in any category.

(b) Who must comply with this AD? Anyone who wishes to operate any of the airplanes identified in paragraph (a) of this AD must comply with this AD.

(c) What problem does this AD address? The actions specified by this AD are intended to prevent the rudder control cable from breaking because of the rudder control cables wearing in the fairlead area. Broken rudder control cables could result in loss of rudder control.

(d) What actions must I accomplish to address this problem? To address this problem, you must accomplish the following:

Actions | Compliance | Procedures
(1) Replace the rudder control cables and fairlead with part numbers 70524-10-500 or 70524-6-500, and 70122-1, as specified in the service letter | Within the next 500 hours time-in-service (TIS) after September 13, 2002 (the effective date of this AD), unless already accomplished | Accomplish the replacements in accordance with Snow Engineering Company Service Letter #199, dated May 30, 2000, and the applicable drawing number 70523 of the replacement kit, as specified in the service letter.
(2) Do not install any rudder control cable that does not have a stainless steel sleeve crimped to the cable in the fairlead area | As of September 13, 2002 (the effective date of this AD) | Not Applicable.

(e) Can I comply with this AD in any other way? You may use an alternative method of compliance or adjust the compliance time if:

(1) Your alternative method of compliance provides an equivalent level of safety; and

(2) The Manager, Fort Worth Airplane Certification Office (ACO), approves your alternative. Submit your request through an FAA Principal Maintenance Inspector, who may add comments and then send it to the Manager, Fort Worth ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Garry D. Sills, Aerospace Engineer, FAA, Fort Worth Airplane Certification Office, 2601 Meacham Boulevard, Fort Worth, Texas 76193-0150; telephone: (817) 222-5154; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Snow Engineering Company Service Letter # 199, dated May 30, 2000. The Director of the Federal Register approved this incorporation by reference under 5 U.S.C. 552(a) and 1 CFR part 51. You may get copies from Air Tractor, Inc., PO Box 485, Olney, Texas 76374. You may view copies at the FAA, Central Region, Office of the Regional Counsel, 901 Locust, Room 506, Kansas City, Missouri, or at the Office of the Federal Register, 800 North Capitol Street, NW., Suite 700, Washington, DC.

(i) When does this amendment become effective? This amendment becomes effective on September 13, 2002.

Issued in Kansas City, Missouri, on July 24, 2002.
Michael Gallagher,
Manager, Small Airplane Directorate, Aircraft Certification Service.

[FR Doc. 02-19257 Filed 7-31-02; 8:45 am]

BILLING CODE 4910-13-P